DEPARTMENT OF TRANSPORTATION

Federal Highway Administration

[Docket No. FHWA-2024-0016]

Agency Information Collection Activities: Notice of Request for Revision of Currently Approved Information Collection

AGENCY: Federal Highway Administration (FHWA), DOT.

ACTION: Notice of request for extension of currently approved information collection.

SUMMARY: The FHWA invites public comments about our intention to request the Office of Management and Budget's (OMB) approval for renewal of an existing information collection that is summarized below under SUPPLEMENTARY INFORMATION. We are required to publish this notice in the Federal Register by the Paperwork Reduction Act of 1995.

DATES: Please submit comments by May 6, 2024.

ADDRESSES: You may submit comments identified by DOT Docket ID Number 0016 by any of the following methods:

Website: For access to the docket to read background documents or comments received go to the Federal eRulemaking Portal: Go to http://www.regulations.gov.

Follow the online instructions for submitting comments.

Fax: 1-202-493-2251.

Mail: Docket Management Facility, U.S. Department of Transportation, West Building Ground Floor, Room W12-140, 1200 New Jersey Avenue SE, Washington, DC 20590-0001.

Hand Delivery or Courier: U.S. Department of Transportation, West Building Ground Floor, Room W12-140, 1200 New Jersey Avenue SE, Washington, DC 20590, between 9 a.m. and 5 p.m. ET, Monday through Friday, except Federal holidays.

FOR FURTHER INFORMATION CONTACT: Kenneth Petty, 202-366-6654, Office of Planning, Environment, and Realty, Federal Highway Administration, Department of Transportation, 1200 New Jersey Avenue SE, Washington, DC 20590, between 7:30 a.m. to 4:30 p.m., Monday through Friday, except Federal holidays.

SUPPLEMENTARY INFORMATION:

Title: Assessment of Transportation Planning Agency Needs, Capabilities and Capacity.

OMB Control #: 2125-0655.

Background: The Federal Highway Administration (FHWA) is committed to advancing the transportation planning process working with States, Metropolitan Planning Organizations, Tribal governments, and transit operators as they make long- and short-range transportation improvement priorities in coordination with the traveling public, the business community, community groups, environmental organizations, and freight operators. Through this effort FHWA will update information on the current state of the practice, data, methods, and systems used by State, metropolitan, regional, local, and Tribal transportation planning entities to support their required planning process in accordance with title 23 United States Code 134 and 135. This information will be used to develop and deliver existing and future Federal Highway Programs through successful partnerships, value-added stewardship, and risk-based oversight. This effort ensures FHWA's renewed focus on equity and organizational excellence, which translates into having a skilled workforce and support system positioned and equipped to deliver its mission.

Respondents: 50 State Transportation Departments, the District of Columbia, Puerto Rico, Guam, American Samoa, and the Virgin Islands; Metropolitan Planning Organizations (MPO), Tribal Governments, and/or Regional Planning Organizations (RPO).

Estimated Average Burden per Response: Each State, MPO, Tribal Government, and RPO will be solicited to provide information up to two times per year. The annual number of burden hours (professional and clerical staff) per respondent to answer questions on the current state of the practice, data, methods, and systems used by State, metropolitan, regional, local, and Tribal transportation planning entities to support their required planning process is estimated to be 3 (biannually × 1.5 hours). The total annual burden for all respondents is estimated to be 2,850 burden hours (3 burden hours per respondent times 950 respondents).

Estimated Total Annual Burden Hours: Total estimated average annual burden is 2,850 hours.

Public Comments Invited: You are asked to comment on any aspect of this information collection, including: (1) Whether the proposed collection is necessary for the FHWA's performance; (2) the accuracy of the estimated burdens; (3) ways for the FHWA to enhance the quality, usefulness, and clarity of the collected information; and (4) ways that the burden could be minimized, including the use of electronic technology, without reducing the quality of the collected information. The agency will summarize and/or include your comments in the request for OMB's clearance of this information collection.

Authority: The Paperwork Reduction Act of 1995; 44 U.S.C. chapter 35, as amended; and 49 CFR 1.48.

Issued on: March 4, 2024.
Jazmyne Lewis,
Information Collection Officer.

[FR Doc. 2024-04847 Filed 3-6-24; 8:45 am]

BILLING CODE 4910-22-P